DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 28, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service (BFS)

1. Title: Annual Letters—Certificate of Authority (A) and Admitted Reinsurer (B).

OMB Control Number: 1530-0014.

Type of Review: Extension without change of a currently approved collection.

Description: Annual letters sent to insurance companies providing surety bonds to protect the U.S. or companies providing reinsurance to the U.S. Information needed for renewal of certified companies and their underwriting limitations, and of admitted reinsurers.

Form: Annual Letter to Executive Officers of Surety Companies Reporting to the Treasury (A) and the Annual Letter to Executive Officers of Companies Recognized by the Treasury as Admitted Reinsurers of Surety Companies Doing Business with the United States Government (B).

Affected Public: Individuals and households.

Estimated Number of Respondents: 341.

Frequency of Response: Annually.

Estimated Total Number of Annual Responses: 341.

Estimated Time per Response: 18 hours, 45 minutes.

Estimated Total Annual Burden Hours: 6,394.

2. Title: Request for Payment of Federal Benefit by Check, EFT Waiver Form.

OMB Control Number: 1530-0019.

Type of Review: Extension without change of a currently approved collection.

Description: 31 CFR part 208 requires that all Federal non-tax payments be made by electronic funds transfer (EFT). This form is used to collect information from individuals requesting a waiver from the EFT requirement because of a mental impairment and/or who live in a remote geographic location that does not support the use of EFT. These individuals may continue to receive payment by check. However, 31 CFR part 208 requires individuals requesting one of these waiver conditions to submit a written justification.

Form: FS Form 1201W, FS Form 1201W (SP), FS Form 1201W-DFAS.

Affected Public: Individuals and households.

Estimated Number of Respondents: 3,250.

Frequency of Response: On Occasion.

Estimated Total Number of Annual Responses: 3,250.

Estimated Time per Response: 20 minutes.

Estimated Total Annual Burden Hours: 1,083.

3. Title: Claim For Lost, Stolen or Destroyed U.S. Savings Bonds and Supplemental Statement For U.S. Securities.

OMB Control Number: 1530-0021.

Type of Review: Extension without change of a currently approved collection.

Description: The information is necessary to apply for relief on account of the loss, theft, or destruction of United States Savings Bonds or the non-receipt of United States Securities.

Form: FS Form 1048, FS Form 2243.

Affected Public: Individuals and households.

Estimated Number of Respondents: 72,000.

Frequency of Response: On Occasion.

Estimated Total Number of Annual Responses: 72,000.

Estimated Time per Response: 17 minutes.

Estimated Total Annual Burden Hours: 20,352.

4. Title: Request by Fiduciary for Reissue of United States Savings Bonds.

OMB Control Number: 1530-0035.

Type of Review: Extension without change of a currently approved collection.

Description: One or more fiduciaries (individual or corporate) must use this form to establish entitlement and request distribution of United States Treasury Securities and/or related payments to the person lawfully entitled due to termination of a trust, distribution of an estate, attainment of majority, restoration to competency, or other reason.

Form: FS Form 1455.

Affected Public: Individuals and households.

Estimated Number of Respondents: 9,500.

Frequency of Response: On Occasion.

Estimated Total Number of Annual Responses: 9,500.

Estimated Time per Response: 30 minutes.

Estimated Total Annual Burden Hours: 4,750.

Authority: 44 U.S.C. 3501 et seq.

Dated: December 23, 2021.
Spencer W. Clark,
Treasury PRA Clearance Officer.

[FR Doc. 2021-28304 Filed 12-28-21; 8:45 am]

BILLING CODE 4810-AS-P900